DEPARTMENT OF VETERANS AFFAIRS (VA)

VA Claims Processing Task Force; Notice of Meeting

The Department of Veterans Affairs (VA) gives notice under Public Law 92-463 that a meeting of the VA Claims Processing Task Force will take place on Tuesday, June 5, 2001; Wednesday, June 6, 2001; Wednesday, June 20, 2001 and Thursday, June 21, 2001. The meetings will be held at VA Central Office, 810 Vermont Avenue, NW., Washington, DC. The room location for the meetings will be clearly posted in the lobby entrance, and the room location will also be available at the Security Desk.

The purpose of the Task Force is to provide findings and recommendations to the Secretary on ways to reduce processing times and shrink the disability claims backlog without compromising either the accuracy of decisions or service to veterans.

The Task Force meetings of June 5, 2001, and June 20, 2001, will convene at 1 p.m. and adjourn at 4:30 p.m. Both of these meetings will be closed to the public in accordance with the provisions set forth in section 10(d) of Public Law 92-463, as amended by sections 5(c) of Public Law 94-409, and 5 U.S.C. 552b(c)(6). During the closed meeting, the Task Force members will examine medical records and claim folders of veterans, and any disclosure would constitute an unwarranted invasion of personal privacy.

The June 6, 2001, and June 21, 2001, meetings will convene at 9 a.m. and adjourn at 4 p.m. The agenda for these meetings will include briefings and discussions on ways to improve VA's ability to process veterans' claims for disability compensation and pension. These meetings are open to the general public. Mr. John O'Hara, Designated Federal Official for the VA Claims Processing Task Force, can be reached at (202) 273-5130.

For interested parties who wish to submit written comment, correspondence should be sent to Mr. John O'Hara, Executive Director, VA Claims Processing Task Force, c/o VA Office of Policy and Planning (008B), 810 Vermont Avenue, NW., Washington, DC 20420.

Dated: May 22, 2001.
By Direction of the Secretary.
Ventris C. Gibson,
Committee Management Officer.

[FR Doc. 01-13759 Filed 5-31-01; 8:45 am]

BILLING CODE 8320-01-M